DEPARTMENT OF JUSTICE

Antitrust Division

Notice Pursuant to the National Cooperative Research and Production Act of 1993—Wireless Application Protocol Forum, Ltd.

Notice is hereby given that, on May 3, 2002, pursuant to section 6(a) of the National Cooperative Research and Production Act of 1993, 15 U.S.C. 4301 et seq. (“the Act”), Wireless Application Protocol Forum, Ltd. (“WAP”) has filed written notifications simultaneously with the Attorney General and the Federal Trade Commission disclosing changes in its membership status. The notifications were filed for the purpose of extending the Act's provisions limiting the recovery of antitrust plaintiffs to actual damages under specified circumstances. Specifically, Aplix Corporation, Tokyo, Japan; CoCoNet AG, Erkrath, Germany; Sky Think Corporation Co., LTD., Osaka, Japan; and The Walt Disney Company Limited, London, United Kingdom, have been added as parties to this venture. Telphia, Inc., San Francisco, CA has acquired Mspect Inc., Sunnyvale, CA. Telefonica Mobiles, Madrid, Spain has acquired Terra Mobile, Madrid, Spain. Diversinet Corporation, Toronto, Ontario, Canada has changed its name to Diversinet Corp. Ericsson Mobile, Research Triangle Park, NC has changed its name to Ericsson Radio Systems AB. Sony International, Stockholm, Sweden has changed its name to Sony Ericsson Mobile Communications. UBS AB, Postfach, Switzerland has changed its name to UBS AG.

The following companies had their memberships cancelled: 724 Solutions, Inc., Toronto, Ontario, Canada; Accenture, Chicago, IL; Air-Go Technologies Corp., San Francisco, CA; Algorithmic Research, Petach-Tikva, Israel; Amdocs Ltd., Ra'anana, Israel; Arthur Anderson LLP, Atlanta, GA; Bull CP8, Louveciennes, France; CacheFlow, Inc., Tokyo, Japan; CellPoint Systems AB, Sollentua, Sweden; Conduit Software, Dublin, Ireland; Critical Path, San Francisco, CA; Dialogue Communications Limited, Sheffield, South Yorkshire, United Kingdom; Digital Boardwalk, Inc., Santa Monica, CA; earthport plc, London, United Kingdom; EC-Gate NV, Toronto, Ontario, Canada; EdgeMatrix Pte Ltd., Singapore, Singapore; Emblaze Systems Ltd., Givataim, Israel; Enition Incorporated, Santa Clara, CA; Equifax, Atlanta, GA; Excite@Home, Redwood City, CA; Extensity, Inc., Emeryville, CA; Fidelity Investments, Boston, MA; Finetix Limited, London, United Kingdom; iConverse, Waltham, MA; Inktomi Corporation, Foster City, CA; LG Electronics Inc., Seoul, Republic of Korea; LG TeleCom, Ltd., Seoul, Republic of Korea; Lightbridge, Inc., Burlington, MA; Logical Design Solutions, Inc., Morristown, NJ; Macromedia, San Francisco, CA; Micropole, Nanterre, France; MobiApps, Inc., McLean, VA; MobileWay, Puteauz, France; MTI, Ltd., Tokyo, Japan; Netegrity Inc., Waltham, MA; Netfish Technologies, Inc., Santa Clara, CA; Netlife AG, Hamburg, Germany; Netonomy, Paris, France; NextCom K.K., Tokyo, Japan; Nextron, Inc., San Jose, CA; Northstream AB, Solna, Sweden; Omnitel Pronto Italia, Milan, Italy; OnMobile Systems, Inc., Fremont, CA; Orsus Solution Ltd., Or yuhuda, Israel; PacketVideo Corporation, San Diego, CA; Proteus, Inc., Washington, DC; Ripcord Systems, Inc., London, United Kingdom; @Road, Inc., Fremont, CA; Sanoma-WSOY Oyj, Helsinki, Finland; Sanyo Electric Co., Ltd., Osaky, Japan; SecureSoft Inc., Seoul, Republic of Korea; Sinotone Datacom Ltd., Hong Kong, Hong Kong-China; SkyGo.com, Redwood City, CA; Smart421, Welwyn Garden City, Herts, United Kingdom; Synapta, Palo Alto, CA; Synovial Inc., Fremont, CA; TD Waterhouse Group, Inc., New York, NY; Telemig Celular Participacoes S.A., Brasilia, Brazil; Telephia, Inc., San Francisco, CA; Telocity, Inc., Cupertino, CA; Tibco Softwares Inc., Palo Alto, CA; Unisys Corporation, London, United Kingdom; Vettro Corporation, New York, NY; Vitria Technology, Inc., Sunnyvale, CA; Wiral Ltd., Espoo, Finland; Wmode, Inc., Calgary, Alberta, Canada; Wysdom, Richmond Hill, Ontario, Canada; and YacCom, Chantepie, France.

The following companies have resigned: ACE*COMM Corporation, Gaithersburg, MD; Add2Phone Ltd., Helsinki, Finland; Appolis AG, Munich, Germany; Arcot Systems, Inc., Santa Clara, CA; Blue Martini Sofeware, San Mateo, CA; Brightpoint, Inc., Indianapolis, IN; Business Objects SA, Levalois Perret, France; Casio Soft Co., Ltd., Tokyo, Japan; Convergys, Cincinnati, OH; Dolphin Telecommunications, Basingstake, Hants, United Kingdom; EncrypTix, Inc., El Segundo, CA; Europay International, Waterloo, Belgium; Everypath, San Jose, CA; Geoworks Corporation, Alameda, CA; Go2 Systems, Inc., Irvine, CA; ICL, Helsinki, Finland; iDini Corporation, San Jose, CA; Impronta Communications, S.L., Madrid, Spain; Inventec Electronics (Shanghai) Co., Ltd., Shanghai, People's Republic of China; J-Phone East Co., Ltd., Tokyo, Japan; Mobilocity, Inc., New York, NY; NetManage, Inc., Cupertino, CA; Nocom AB, Uppsala, Sweden; OneName Corporation, Seattle, WA; OpenGrid, Inc., San Jose, CA; Opt(e)way, Paris France; ParaRede Technologies Ltd., Lisboa, Portugal; Purple Technologies Ltd., London, United Kingdom; Real Names Corp., Redwood City, CA; room33AB, Stockholm, Sweden; RTSe, Espoo, Finland; Seagull, Dordrecht, The Netherlands; Sila Communications Ltd., London, United Kingdom; SkyTel Communications, Jackson, MS; Solid Information Technology, Ltd., Helsinki, Finland; Soprano Design Pty Ltd, North Sydney, New South Wales, Australia; space2go.com GmbH & Co., Berlin, Germany; Speedia, Llc., Brooklyn, NY; Swisscom AG, Berne, Switzerland; Tegaron Telematics GmbH, Bonn, Germany; Telsim Mobil Telekomunikayson, Istanbul, Turkey; The PhonePages of Sweden AB, Kista, Sweden; Ubizen, Leuven, Belgium; Vignetter Corporation, Austin, TX; Webtiss Technologies, Paris, France; WIPRO Technologies-Global R & D Bangalore, India; WorldCom, Clinton, MS; worldzap, Zug, Switzerland; ZKEY.Com, Los Angeles, CA; and Zsigo Wireless Technologies, East Lansing, MI.

No other changes have been made in either the membership or planned activity of the group research project. Membership in this group research project remains open, and WAP intends to file additional written notifications disclosing all changes in membership.

On March 18, 1998, WAP filed its original notification pursuant to section 6(a) of the Act. The Department of Justice published a notice in the Federal Register pursuant to section 6(b) of the Act on December 31, 1998 (63 FR 72333).

The last notification was filed with the Department on January 28, 2002. A notice was published in the Federal Register pursuant to section 6(b) of the Act on April 4, 2002 (67 FR 16125).

Constance K. Robinson,
Director of Operations, Antitrust Division.

[FR Doc. 02-16219 Filed 6-26-02; 8:45 am]

BILLING CODE 4410-11-M